DEPARTMENT OF HOMELAND SECURITY

Transportation Security Administration

New Agency Information Collection Activity Under OMB Review: Pipeline Corporate Security Review

AGENCY: Transportation Security Administration, DHS.

ACTION: 30-day notice.

SUMMARY: This notice announces that the Transportation Security Administration (TSA) has forwarded the new Information Collection Request (ICR) abstracted below to the Office of Management and Budget (OMB) for review and approval under the Paperwork Reduction Act. The ICR describes the nature of the information collection and its expected burden. TSA published a Federal Register notice, with a 60-day comment period soliciting comments, of the following collection of information on August 20, 2009, 74 FR 42086. The collection encompasses interviews and site visits with pipeline operators regarding company security planning and implementation.

DATES: Send your comments by December 29, 2010. A comment to OMB is most effective if OMB receives it within 30 days of publication.

ADDRESSES: Interested persons are invited to submit written comments on the proposed information collection to the Office of Information and Regulatory Affairs, Office of Management and Budget. Comments should be addressed to Desk Officer, Department of Homeland Security/TSA, and sent via electronic mail to oira_submission@omb.eop.gov or faxed to (202) 395-6974.

FOR FURTHER INFORMATION CONTACT: Joanna Johnson, TSA Paperwork Reduction Act (PRA) Officer, Office of Information Technology (OIT), TSA-40, Transportation Security Administration, 601 South 12th Street, Arlington, VA 20598-6040; telephone (571) 227-3651; e-mail TSAPRA@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Pipeline Corporate Security Review (PCSR).

Type of Request: New collection.

OMB Control Number: Not yet assigned.

Form(s): Pipeline Corporate Security Review (PCSR) Protocol Form.

Affected Public: Hazardous Liquids and Natural Gas Pipeline Industry.

Abstract: Under the Aviation and Transportation Security Act (ATSA) and delegated authority from the Secretary of Homeland Security, TSA is tasked with developing policies, strategies and plans for dealing with transportation security. TSA carries out this responsibility in the pipeline mode by assessing current industry security practices by way of its Pipeline Corporate Security Review (PCSR) program. The information will be collected during a voluntary, face-to-face visit with the pipeline operator, during which TSA will discuss the operator's security plan and also complete the PCSR Form. The PCSR Form asks approximately 218 questions concerning the operator's security planning and program, covering security topics such as threat assessments, criticality, vulnerability, credentialing, training, physical security countermeasures, and exercises and drills. TSA will use the information collected during the PCSR process to determine baseline security standards and areas of security weakness in the pipeline mode.

Number of Respondents: 2,200 potential respondents; likely 12 annual respondents.

Estimated Annual Burden Hours: An estimated 100 hours annually, based on TSA conducting 12 PCSR visits a year, each lasting 8 hours.

Issued in Arlington, Virginia, on November 23, 2010.
Joanna Johnson,
Paperwork Reduction Act Officer, Office of Information Technology.

[FR Doc. 2010-29988 Filed 11-26-10; 8:45 am]

BILLING CODE 9110-05-P